DEPARTMENT OF STATE

[Public Notice: 9203]

60-Day Notice of Proposed Information Collection: U.S. Passport Application Drop-Off List

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 5, 2015.

ADDRESSES: You may submit comments by any of the following methods:

• Web: Persons with access to the Internet may use the Federal Docket Management System (FDMS) to comment on this notice by going to www.Regulations.gov. You can search for the document by entering Docket Number: DOS-2015-0034 in the Search field. Then click the “Comment Now” button and complete the comment form.

• Email: PPTFormsOfficer@state.gov.

• Mail: PPT Forms Officer, U.S. Department of State, Bureau of Consular Affairs, Passport Services, Office of Legal Affairs and Law Enforcement Liaison, 2201 C Street NW., Washington, DC 20520.

• Fax: (202) 485-6496 (include a cover sheet addressed to “PPT Forms Officer” referencing the DS form number, information collection title, and OMB control number).

• Hand Delivery or Courier: PPT Forms Officer, U.S. Department of State, Bureau of Consular Affairs, Passport Services, Office of Legal Affairs and Law Enforcement Liaison, 2201 C Street NW., Washington, DC 20520.

You must include the DS form number (if applicable), information collection title, and the OMB control number in any correspondence.

FOR FURTHER INFORMATION CONTACT: Direct requests for additional information regarding the collection listed in this notice, including requests for copies of the proposed collection instrument and supporting documents, to PPT Forms Officer, U.S. Department of State, Bureau of Consular Affairs, Passport Services, Office of Legal Affairs and Law Enforcement Liaison, 44132 Mercure Cir, P.O. Box 1227, Sterling, Virginia 20166-1227, who may be reached on (202) 485-6373 or at PPTFormsOfficer@state.gov.

SUPPLEMENTARY INFORMATION: • Title of Information Collection: U.S. Passport Application Drop-Off List.

• OMB Control Number: 1405-XXXX.

• Type of Request: New Collection.

• Originating Office: Bureau of Consular Affairs, Passport Services, Office of Legal Affairs and Law Enforcement Liaison (CA/PPT/S/L).

• Form Number: DS-4283.

• Respondents: Business or Other For-Profit.

• Estimated Number of Respondents: 1,000 respondents per year.

• Estimated Number of Responses: 216,000 responses per year.

• Average Time per Response: 10 minutes.

• Total Estimated Burden Time: 36,000 hours per year.

• Frequency: Daily.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public records. Before including any detailed personal information, you should be aware that your comments as submitted, including your personal information, will be available for public review.

Abstract of proposed collection: The information collected on the DS-4283 is used to facilitate the issuance of passports to U.S. nationals with imminent travel plans who hire private courier companies to deliver their applications to one of the Department's domestic passport agencies. Out of the twenty-seven Department's domestic passport agencies, only twelve are currently participating. The Department asks courier company employees to complete the DS-4283 and submit the form with passport applications delivered in bulk to passport agencies in a designated drop-off box. Passport agencies use the form to track the submission of applications that a courier drops off. The form serves as a record of receipt of documents submitted to the Department and as an acknowledgment of who delivered these documents. The DS-4283 is part of a Department effort to facilitate the delivery of passport applications by private courier companies while maintaining the integrity of the passport application process.

Methodology: This form is used to track the processing of passport applications delivered in bulk to passport agencies by private courier companies. Courier employees are asked to attach the form onto sealed envelopes or packages containing passport applications which they deliver in bulk to designated drop-off facilities at one of twelve passport agencies for processing.

Additional Information:

Dated: July 16, 2015.
Brenda S. Sprague,
Deputy Assistant Secretary for Passport Services, Bureau of Consular Affairs, Department of State.

[FR Doc. 2015-19336 Filed 8-5-15; 8:45 am]

BILLING CODE 4710-06-P